SOCIAL SECURITY ADMINISTRATION

[Docket No. SSA-2008-0052]

Establishment of the Occupational Information Development Advisory Panel

AGENCY: Social Security Administration (SSA).

ACTION: Notice of the establishment of the Occupational Information Development Advisory Panel.

SUMMARY: We are establishing the Occupational Information Development Advisory Panel (Panel) under the provisions of the Federal Advisory Committee Act (FACA). The creation of the Panel, while discretionary, is necessary and in the public interest. It will help us to perform our statutory duties. We have consulted with the Committee Management Secretariat, General Services Administration.

ADDRESSES: Members of the public may suggest to the Panel cities and States in the contiguous United States in which to hold Panel meetings. To the extent possible, we intend to hold Panel meetings in a variety of locations throughout the Nation to ensure access to as many interested parties as possible.

FOR FURTHER INFORMATION CONTACT: Debra Tidwell-Peters, Designated Federal Official, Occupational Information Development Advisory Panel, SSA, by:

• Mail addressed to: SSA, Occupational Information Development. Advisory Panel, 3-E-26 Operations Building, Baltimore, MD 21235.

• Telephone at: 410-965-9617.

• Fax at: 410-597-0825.

• E-mail to debra.tidwell-peters @ssa.gov.

SUPPLEMENTARY INFORMATION: Panel members will analyze the occupational information used by SSA in our disability programs and provide expert guidance as we develop an occupational information system (OIS) tailored for these programs. We plan to design the OIS to improve our disability policies and processes and to ensure up-to-date vocational evidence in our disability programs. We will select Panel members based primarily on their occupational expertise. This Panel will provide guidance on our plans and actions to replace the Dictionary of Occupational Titles and its companion volume, The Selected Characteristics of Occupations. We expect to tailor the OIS specifically for our disability programs.

The Panel will be composed of not more than 12 members, including: (a) Members of academia recognized as experts in relevant subject areas, such as occupational analysis, vocational assessment, and physical and occupational rehabilitation; (b) professional experts in relevant subject areas, such as vocational rehabilitation, forensic vocational assessment, and disability insurance programs; (c) medical professionals with experience in relevant subject areas such as occupational or physical rehabilitation medicine, psychiatry or psychology, and physical or occupational therapy; (d) professional experts who represent or advocate on behalf of the disabled claimants; and (e) an agency employee who has expertise in our disability program policies, processes, and systems. The Panel is continuing in nature. In accordance with the FACA, we will publish a notice of the first Panel meeting in the Federal Register .

Dated: December 9, 2008.
Michael J. Astrue,
Commissioner of Social Security.

[FR Doc. E8-30589 Filed 12-22-08; 8:45 am]

BILLING CODE 4191-02-P